COMMISSION ON CIVIL RIGHTS

Sunshine Act Meeting

AGENCY: Commission on Civil Rights

DATE AND TIME: Friday, September 15, 2000, 9:30 a.m.

PLACE: Commission on Civil Rights, 624 Ninth Street, NW., Room 540, Washington, DC 20425.

STATUS:

Agenda

I. Approval of Agenda

II. Approval of Minutes of July 21, 2000 Meeting

III. Announcements

IV. Staff Director's Report

V. State Advisory Committee Appointments for Arkansas and Oklahoma

VI. Funding Federal Civil Rights Enforcement Report

VII. “Sharing the Dream: Is ADA Accommodating ALL?” Report

VIII. Future Agenda Items

CONTACT PERSON FOR FURTHER INFORMATION: David Aronson, Press and Communications (202) 376-8312.

Edward A. Hailes, Jr.,
Acting General Counsel.

[FR Doc. 00-22840 Filed 8-31-00; 3:56 pm]

BILLING CODE 6335-01-M